NUCLEAR REGULATORY COMMISSION

[Docket 72-30]

Maine Yankee Atomic Power Company (MYAPC) Maine Yankee Independent Spent Fuel Storage Installation (ISFSI) Issuance of Environmental Assessment and Finding of No Significant Impact

The U.S. Nuclear Regulatory Commission (NRC or Commission) is considering issuance of an exemption, pursuant to 10 CFR 72.7, from specific provisions of 10 CFR 72.212(a)(2), 72.212(b)(2)(i), 72.212(b)(7), and 72.214 to MYAPC. The requested exemption would allow MYAPC to deviate from the requirements of Certificate of Compliance No. 1015 (the Certificate), Appendix A, Surveillance Requirement (SR) 3.1.2.1, “CANISTER Vacuum Drying Pressure,” and SR 3.1.3.1, “CANISTER Helium Backfill Pressure,” which provide the surveillance frequencies for verifying the drying pressure and backfill pressure are within limits. The requested exemption would allow the surveillances to be performed “Prior to TRANSPORT OPERATIONS” instead of “Once within 10 hours . . . after completion of CANISTER draining,” which is required by the Certificate.

Environmental Assessment (EA)

Identification of Proposed Action: By letter dated August 9, 2001, MYAPC requested an exemption from the requirements of 10 CFR 72.212(b)(2)(i), 72.212(b)(7), and 72.214 to deviate from the requirements of Certificate of Compliance No. 1015, Appendix A, SR 3.1.2.1 and SR 3.1.3.1. Staff has also considered an exemption from 10 CFR 72.212(a)(2). MYAPC is a general licensee, authorized by NRC to use spent fuel storage casks approved under 10 CFR Part 72, Subpart K.

MYAPC plans to use the NAC-UMS Cask System to store spent nuclear fuel, generated at the Maine Yankee Atomic Power Station, at an ISFSI located in Wiscasset, Maine, approximately 1200 feet north of the reactor plant. The Maine Yankee ISFSI has been constructed for interim dry storage of spent nuclear fuel.

By exempting MYAPC from 10 CFR 72.212(a)(2), 72.212(b)(2)(i), 72.212(b)(7), and 72.214, MYAPC will be authorized to delay performance of SR 3.1.2.1, “CANISTER Vacuum Drying Pressure,” and SR 3.1.3.1, “CANISTER Helium Backfill Pressure,” which provide the surveillance frequencies for verifying the drying pressure and backfill pressure are within limits.

The surveillances, SR 3.1.2.1 and SR 3.1.3.1, shall be performed “Prior to TRANSPORT OPERATIONS.”

The surveillance frequencies above would be in lieu of those in the current Certificate of Compliance No. 1015, Rev. 1, Appendix A, SR 3.1.2.1 and SR 3.1.3.1. The definition of TRANSPORT OPERATIONS is provided in section A 1.1 of Certificate of Compliance No. 1015, Rev. 1, Appendix A (ADAMS Accession #ML010260245). The proposed action before the Commission is whether to grant this exemption under 10 CFR 72.7.

On February 20, 2001, NRC approved Amendment 1 to the NAC-UMS Certificate of Compliance, which provided, in part, a change to Limiting Condition for Operation (LCO) 3.1.1 allowing longer times for spent fuel cask loading operations based on the reduced canister heat loads. The Amendment application did not include a corresponding revision to the surveillance frequences, in SR 3.1.2.1 and SR 3.1.3.1 and, as a result, the surveillance frequencies were not revised.

The NRC staff has reviewed the exemption request and determined that the revised surveillance frequencies are consistent with the safety analyses previously reviewed for Amendment 1, and would have no impact on the design basis and would not be inimical to public health and safety.

Need for the Proposed Action: NAC International, the owner of the NAC-UMS design, requested Amendment 2 to the Certificate on October 17, 2000. This application, as supplemented, would correct the inconsistencies with SR 3.1.2.1 and SR 3.1.3.1. However, the rulemaking on this amendment will not be completed in time to support the planned schedule for Maine Yankee cask loading. Therefore, this errror in not revising the inconsistent surveillance frequencies may provide insufficient surveillance frequency times to avoid unnecessarily entering into the Required Actions for the associated LCOs 3.1.2 and 3.1.3. The NRC is proposing to grant this exemption based on the staff's technical review of information submitted by MYAPC.

Environmental Impacts of the Proposed Action: The potential environmental impact of using the NAC-UMS system was initially presented in the EA for the Final Rule to add the NAC-UMS to the list of approved spent fuel storage casks in 10 CFR 72.214 (65 FR 62581 (October 19, 2000)).

The staff performed a safety evaluation of the proposed exemption. The staff found that the proposed exemption is consistent with the analyses presented in the Safety Analysis Report for the NAC-UMS Cask System and does not reduce the ability of the system to perform its safety function. The staff has determined that changing the surveillance frequencies for verification of vacuum drying pressure and helium backfill pressure does not pose any increased risk to public health and safety.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Therefore, the staff has determined that there is no reduction in the ability of the system to perform its safety function, nor significant environmental impacts as a result of revising the surveillance frequencies for SR 3.1.2.1 and SR 3.1.3.1 from “Once within 10 hours . . . after completion of CANISTER draining” to “Prior to TRANSPORT OPERATIONS.” Therefore, the proposed action now under consideration would not change the potential environmental effects assessed in the initial rulemaking (65 FR 62581).

Alternative to the Proposed Action: Since there is no significant environmental impact associated with the proposed action, alternatives with equal or greater environmental impact are not evaluated. The alternative to the proposed action would be to deny approval of the exemption. Denial of the exemption request will have the same environmental impact.

Agencies and Persons Consulted: On August 20, 2001, Mr. Dale Randall of the State of Maine, Department of Human Services, Division of Health Engineering was contacted about the Environmental Assessment for the proposed action. On August 23, 2001, Ms. Paula Craighead, State Nuclear Safety Advisor for the State of Maine was also contacted.

Ms. Craighead responded by letter dated August 24, 2001, (ADAMS Accession#ML012480279) with two comments on the proposed exemption request. The first comment was a request to place in the record of exemption the location of the definition of TRANSPORT OPERATIONS within Certificate of Compliance No. 1015, and to also indicate where the document could be found in the public record. This first comment has been incorporated into this notice, and will also be indicated in the exemption response. The second comment concerned ensuring written communication occurs between NRC and DOE on all matters concerning handling of spent fuel and Greater Than Class C material. On August 28, 2001, this second comment was discussed with Ms. Craighead. Ms. Craighead clarified that the State's concern was not that every related document be provided to DOE, but that communications relevant to DOE's activities occur. It was mutually agreed that the NRC will continue to involve DOE in relevant discussions and correspondence on spent fuel and Greater Than Class C material.

Finding of No Significant Impact

The environmental impacts of the proposed action have been reviewed in accordance with the requirements set forth in 10 CFR part 51. Based upon the foregoing EA, the Commission finds that the proposed action of granting an exemption from 10 CFR 72.212(a)(2), 72.212(b)(2)(i), 72.212(b)(7), and 72.214 so that MYAPC may load NAC-UMS Cask Systems with revised surveillance frequencies (as specified above) for verifying canister vacuum drying pressure and helium backfill pressure at the Maine Yankee ISFSI will not significantly impact the quality of the human environment. Accordingly, the Commission has determined not to prepare an environmental impact statement for the proposed exemption.

The request for exemption was docketed under 10 CFR part 72, Docket 72-30. For further details with respect to this action, see the exemption request dated August 9, 2001. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 6th day of September 2001.
For the Nuclear Regulatory Commission.
Charles L. Miller,
Deputy Director, Spent Fuel Project Office, Office of Nuclear Material Safety and Safeguards.

[FR Doc. 01-23151 Filed 9-14-01; 8:45 am]

BILLING CODE 7590-01-P